DEPARTMENT OF TRANSPORTATION

Office of the Secretary

Notice of Applications for Certificates of Public Convenience and Necessity and Foreign Air Carrier Permits Filed Under Subpart B (Formerly Subpart Q) During the Week Ending September 28, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-29368.

Date Filed: September 27, 2007.

Due Date for Answers, Conforming Applications, or Motion to Modify Scope: October 18, 2007.

Description: Application of Pan American World Airways Dominicana, C. por A., d/b/a PAWA Dominicana (“PAWA Dominicana”) requesting issuance of a foreign air carrier permit authorizing PAWA Dominicana, to provide scheduled and charter foreign air transportation carrying persons, property and mail between Santo Domingo and other points in the Dominican Republic, on the one hand, and San Juan, Puerto Rico, and other points in Puerto Rico, on the other hand.

Renee V. Wright,
Program Manager, Docket Operations, Federal Register Liaison.

[FR Doc. E7-19954 Filed 10-9-07; 8:45 am]

BILLING CODE 4910-9X-P